DEPARTMENT OF JUSTICE

Notice of Lodging of Consent Decree Under the Comprehensive Environmental Response, Compensation, and Liability Act and The Clean Water Act

Notice is hereby given that on October 12, 2010, two proposed Consent Decrees in United States and State of Louisiana v. ConocoPhillips Company and Sasol North America Inc., Civil Action No. 2:10-cv-1556, were lodged with the United States District Court for the Western District of Louisiana.

In this action the United States, on behalf of the United States Environmental Protection Agency, the United States Department of the Interior, and the National Oceanic and Atmospheric Administration of the United States Department of Commerce, and the State of Louisiana, on behalf of the Louisiana Department of Wildlife and Fisheries (“LDWF”) and the Louisiana Department of Environmental Quality (“LDEQ”), sought, pursuant to Sections 106 and 107(a) of the Comprehensive Environmental Response, Compensation and Liability Act (“CERCLA”), 42 U.S.C. 9606 and 9607(a), and pursuant to Section 311(f) of the Clean Water Act, 33 U.S.C. 1321(f), (1) Reimbursement of response costs incurred and to be incurred by the governments in connection with the Calcasieu Estuary Superfund Site (“Site”), (2) injunctive relief requiring performance of response actions by Defendants; and (3) recovery of damages for the injury to, destruction of, or loss of natural resources under the trusteeship of the federal and state trustees, as a result of releases and threatened release of hazardous substances into the environment at or from the Site, including the recovery of the costs of assessing such injury and damages and the future costs of overseeing and monitoring restoration actions. The Calcasieu Estuary Superfund Site is located in Louisiana and includes the aerial extent of contamination within the area of the Estuary encompassing Bayou Verdine, Bayou d' Inde, Coon Island Loop, Clooney Island Loop, Prien Lake, Lake Charles, and the Calcasieu River from the saltwater barrier to Moss Lake.

The United States and the State have negotiated two separate consent decrees to resolve the CERCLA and CWA claims against Settling Defendants, as well as the state law claims. The proposed Consent Decrees resolve the liability of ConocoPhillips Company and Sasol North America Inc. for response costs incurred and response actions taken in connection with the Site and for damages for injury to, loss of, or destruction of natural resources at the Site as alleged in the Complaint. Under the Consent Decree for Removal Action and Recovery of Response Costs, Settling Defendants have agreed to: (1) Reimburse the United States $4,553,547 of past response costs for the Site and 100% of future oversight costs related to the selected removal action for Bayou Verdine, and (2) perform a non-time critical removal action within Bayou Verdine and adjacent areas at the Site in accordance with the Action Memorandum for a Removal Action at the Calcasieu Estuary Superfund Site, Bayou Verdine Area of Concern, Lake Charles, Calcasieu Parish, Louisiana, executed by EPA on August 6, 2003. This Consent Decree includes a covenant not to sue by the United States and the State under Sections 106 and 107 of CERCLA, under Section 311(f) of the Clean Water Act, and under Section 7003 of the Resource Conservation and Recovery Act (“RCRA”), 42 U.S.C. 6973.

Under the Consent Decree for Natural Resource Damages, Settling Defendants have agreed to (1) reimburse the federal and state trustees nearly $1,200,000 of past natural resource damages assessment costs, (2) perform construction of a restoration project selected by the trustees in accordance with the Final Restoration Plan and Environmental Assessment for the Bayou Verdine Site, and (3) pay an additional sum of $750,000 toward further monitoring or corrective action after completion of construction of the restoration project. Under the terms of the Consent Decree and the assessment and restoration plan finalized by the Trustees, the Settling Defendants will construct the Sabine Unit 1999 Restoration Project to compensate for the natural resources losses attributable to Settling Defendants' releases of hazardous substances into the Calcasieu Estuary. The Project will create over 14 new acres of marsh, enhance the ecological functioning of approximately 247 acres of existing marsh, and increase the expected functional life span of these marshes. It is to be performed in the Calcasieu Estuary at a designated site within the Sabine National Wildlife Refuge. This Consent Decree includes a covenant not to sue by the United States and the State under Section 107 of CERCLA and under Section 311(f) of the Clean Water Act.

The two proposed Consent Decrees are to become effective only after both have been entered by the Court.

The Department of Justice will receive for a period of thirty (30) days from the date of this publication comments relating to the Consent Decree. Comments should be addressed to the Assistant Attorney General for the Environment and Natural Resources Division, U.S. Department of Justice, and either e-mailed to pubcomment-ees.enrd@usdoj.gov or mailed to P.O. Box 7611, NW., Washington, DC 20044-7611, and should refer to United States and State of Louisiana v. ConocoPhillips Company and Sasol North America Inc., D.J. Ref. 90-11-2-1284 and 1284/1. Commenters may request an opportunity for a public meeting in the affected area, in accordance with Section 7003 (d) of RCRA, 42 U.S.C. 6973(d).

The Consent Decrees may be examined at the Office of the United States Attorney, Western District of Louisiana, 800 Lafayette Street, Suite 2200, Lafayette, Louisiana 70501. The Consent Decree for Removal Action and Recovery of Response Costs may also be examined at U.S. EPA Region 6, 1445 Ross Avenue, Suite 1200, Dallas, Texas, 75202. During the public comment period, the Consent Decrees may also be examined on the following Department of Justice Web site, http://www.usdoj.gov/enrd/Consent_Decrees.html. A copy of either Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $51.25 for the Response Costs and Response Action Consent Decree and attachments (25 cents per page reproduction cost) and/or in the amount of $21.75 for the Natural Resource Damages Consent Decree and attachments (25 cents per page reproduction cost), payable to the U.S. Treasury or, if by email or fax, forward a check in the amount(s) to the Consent Decree Library at the stated address.

Maureen Katz,
Assistant Section Chief, Environmental Enforcement Section, Environment and Natural Resources Division.

[FR Doc. 2010-26238 Filed 10-18-10; 8:45 am]

BILLING CODE 4410-15-P